DEPARTMENT OF ENERGY

U.S.-Africa Energy Ministerial Meeting

AGENCY: Department of Energy.

ACTION: Notice of public conference and opportunity to participate.

SUMMARY: This notice announces a public U.S.-African Energy Ministerial Conference co-sponsored by the Government of Morocco and Department of Energy of the United States. Attendance at the conference with the exception of the Energy Ministers Only session is open to the public at no charge. In addition, businesses may display exhibits on a fee basis at the conference.

DATES: Meeting date: June 3-4, 2002. Companies planning to attend the conference should register by calling 011-212-37-688-486 or by emailing casaconf@mem.gov.ma.

ADDRESSES: Send comments/questions to: Samuel.Browne@hq.doe.gov or Samuel Browne, US DOE, Office of Policy and International Affairs, PI-32, 1000 Independence Avenue, SW., Washington, DC 20585, or by phone at 202-586-8724.

SUPPLEMENTARY INFORMATION: The Government of Morocco and the Department of Energy are co-sponsoring the Third Conference of U.S.-Africa Energy Ministers. The theme of the conference is “Energy Partnerships for Sustainable Development: Energy Security and Regional Integration.”

The conference, hosted by the Government of Morocco in Casablanca, will serve as a venue for the Energy Ministers to meet with one another and with other public and private sector representatives to discuss important issues, including developing an attractive investment climate and identifying opportunities for partnerships and project development. The Casablanca Conference follows the first U.S.-Africa Energy Ministers Conference, hosted by the United States in Tucson, Arizona, in 1999, and the Second Ministerial Conference, hosted by South Africa in Durban, in 2000. These Conferences were productive in enhancing the dialogue among public and private sector representatives on key energy issues. President Bush's National Energy Policy also reaffirms the importance of the U.S.-African Energy Ministerial process in its ability to help promote democracy, good governance, human rights, trade investment, and global integration.

Public Participation

There is no charge for the private sector to participate in the Ministerial. However, businesses or other entities wishing to display exhibits can access a point of contact via the Government of Morocco's conference email address at casaconf@men.gov.ma. The cost of the exhibit space is $1000.00 per exhibit. The conference is open to the public with the exception of the Energy Ministers Only session on June 4, 2 to 4 p.m.

Issued in Washington, DC, on April 30, 2002.
Vicky A. Bailey,
Assistant Secretary of Energy, Office of Policy and International Affairs.

[FR Doc. 02-11729 Filed 5-9-02; 8:45 am]

BILLING CODE 6450-01-P